DEPARTMENT OF COMMERCE

International Trade Administration

[C-489-830]

Steel Concrete Reinforcing Bar From the Republic of Turkey: Amended Final Affirmative Countervailing Duty Determination and Countervailing Duty Order

AGENCY: Enforcement and Compliance, International Trade Administration, Department of Commerce.

SUMMARY: Based on affirmative final determinations by the Department of Commerce (the Department) and the International Trade Administration (ITC), the Department is issuing a countervailing duty (CVD) order on steel concrete reinforcing bar (rebar) from the Republic of Turkey (Turkey). In addition, the Department is amending its final determination to correct ministerial errors.

DATES: July 14, 2017.

FOR FURTHER INFORMATION CONTACT: Kaitlin Wojnar, AD/CVD Operations, Office VII, Enforcement and Compliance, International Trade Administration, Department of Commerce, 1401 Constitution Avenue NW., Washington, DC 20230; telephone: (202) 482-3857.

SUPPLEMENTARY INFORMATION:

Background

In accordance with sections 705(d) and 777(i) of the Tariff Act of 1930, as amended (the Act) and 19 CFR 351.210(c), on May 22, 2017, the Department published its affirmative final determination in the CVD investigation of rebar from Turkey.¹ As discussed below, several interested parties filed ministerial error comments on the Final Determination,² which the Department addressed in a separate memorandum.³ On June 30, 2017, the ITC notified the Department of its final determination pursuant to section 705(b)(1)(A)(i) of the Act that an industry in the United States is materially injured by reason of subsidized imports of rebar from Turkey.⁴

¹ See Steel Concrete Reinforcing Bar from the Republic of Turkey: Final Affirmative Countervailing Duty Determination, 82 FR 23188 (May 22, 2017) (Final Determination).

² See Letter from Habas, “Steel Concrete Reinforcing Bar from Turkey; Habas: request for correction of ministerial errors,” May 24, 2017 (Habas Ministerial Error Allegations); see also Letter from the GOT, “Request of Government of Turkey for Correction of Ministerial Error on Final Determination in CVD Proceeding on Steel Concrete Reinforcing Bar from the Republic of Turkey,” May 24, 2017 (GOT Ministerial Error Allegations); Letter from the petitioner, “Steel Concrete Reinforcing Bar from the Republic of Turkey: Rebuttal to Ministerial Error Submissions,” May 30, 2017 (Petitioner Ministerial Error Rebuttal).

³ See Department Memorandum, “Steel Concrete Reinforcing Bar from the Republic of Turkey: Response to Ministerial Error Comments on the Final Affirmative Countervailing Duty Determination,” June 12, 2017 (Ministerial Error Memorandum) (providing a detailed discussion of the alleged ministerial errors).

⁴ See Letter from the ITC to the Honorable Ronald Lorentzen, June 30, 2017 (Notification of ITC Final Determination); see also Steel Concrete Reinforcing Bar from Japan and Turkey, Investigation Nos. 701-TA-564 and 731-TA-1338-1340 (Final) (June 2017).

Scope of the Order

The product covered by this order is rebar from Turkey. For a complete description of the scope of this order, see the Appendix to this notice.

Amendment to the Final Determination

On May 24, 2017, Habaş Sinai ve Tibbi Gazlar Istihsal Endüstrisi A.Ş. (Habas) and the Government of Turkey (the GOT) alleged that the Department made ministerial errors in the Final Determination.⁵ The petitioner in this proceeding, the Rebar Trade Action Coalition and its individual members,⁶ subsequently filed comments on the ministerial error allegations.⁷ A ministerial error is defined as an error in addition, subtraction, or other arithmetic function, clerical error resulting from inaccurate copying, duplication, or the like, and any other similar type of unintentional error which the Department considers ministerial.⁸

⁵ See Habas Ministerial Error Allegations and GOT Ministerial Error Allegations.

⁶ The Rebar Trade Action Coalition is comprised of Byer Steel Group, Inc., Commercial Metals Company, Gerdau Ameristeel U.S. Inc., Nucor Corporation, and Steel Dynamics, Inc.

⁷ See Petitioner Ministerial Error Rebuttal.

⁸ See section 705(e) of the Act.

The Department reviewed the record and agrees that certain errors identified by Habas constitute ministerial errors within the meaning of section 705(e) of the Act and 19 CFR 351.224(f).⁹ Therefore, pursuant to 19 CFR 351.224(e), the Department is amending the Final Determination to reflect the correction of these ministerial errors, resulting in a change in the net countervailable subsidy rate from 16.21 percent to 15.99 percent. In addition, because the “all-others” rate is based on Habas's subsidy rate, we are revising the subsidy rate for companies that were not individually examined in this investigation from 16.21 percent to 15.99 percent.¹⁰

⁹ See Ministerial Error Memorandum.

¹⁰ See Ministerial Error Memorandum at 8. Currently, only Habas is subject to this CVD order. Therefore, at this time, no companies will be subject to the all-others rate and the cash deposit rates discussed below will apply solely to rebar produced and exported by Habas.

Countervailing Duty Order

In accordance with sections 705(b)(1)(A)(i) and 705(d) of the Act, the ITC notified the Department of its final determination that an industry in the United States is materially injured by reason of subsidized imports of rebar from Turkey.¹¹ Therefore, in accordance with section 705(c)(2) of the Act, we are issuing this CVD order.

¹¹ Notification of ITC Final Determination.

Because the ITC determined that imports of rebar from Turkey are materially injuring a U.S. industry, unliquidated entries of such merchandise from Turkey, entered or withdrawn from warehouse for consumption, are subject to the assessment of countervailing duties. Therefore, in accordance with section 706(a) of the Act, the Department will direct U.S. Customs and Border Protection (CBP) to assess, upon further instruction by the Department, countervailing duties for all relevant entries of rebar from Turkey in an amount equal to the net countervailable subsidy rates for the subject merchandise. Countervailing duties will be assessed on unliquidated entries of rebar from Turkey entered, or withdrawn from warehouse for consumption, on or after March 1, 2017, the date on which the Department published its preliminary determination in the Federal Register.¹²

¹² See Steel Concrete Reinforcing Bar from the Republic of Turkey: Preliminary Affirmative Countervailing Duty Determination and Alignment of Final Countervailing Duty Determination with Final Antidumping Duty Determination, 82 FR 12195 (March 1, 2017).

Continuation of Suspension of Liquidation

In accordance with section 706 of the Act, the Department will direct CBP to continue to suspend liquidation of all relevant entries of rebar from Turkey, effective the date of publication of the ITC's notice of final determination in the Federal Register. These instructions will remain in effect until further notice.

The Department will also instruct CBP to require cash deposits equal to the amounts indicated below, effective the date of publication of this amended final determination in the Federal Register. At the time of publication, only rebar both produced and exported by Habas is within the scope of this order. Accordingly, no companies are currently subject to the all-others rate listed below.

Subsidy Rates

The Department has calculated the following countervailable subsidy rates:

Exporter/producer | Subsidy rate (percent)
Habas Sinai ve Tibbi Gazlar Istihsal Endustrisi A.S | 15.99
All Others | 15.99

Notification to Interested Parties

This notice constitutes the CVD order with respect to rebar from Turkey, pursuant to section 706(a) of the Act. Interested parties can find a list of CVD orders currently in effect at http://enforcement.trade.gov/stats/iastats1.html.

This order is issued and published in accordance with section 706(a) of the Act and 19 CFR 351.211(b).

Dated: July 6, 2017.
Gary Taverman,
Deputy Assistant Secretary for Antidumping and Countervailing Duty Operations, performing the non-exclusive functions and duties of the Assistant Secretary for Enforcement and Compliance.

Appendix

Scope of the Order

The merchandise subject to this order is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject country or a third country, including but not limited to cutting, grinding, galvanizing, painting, coating, or any other processing that would not otherwise remove the merchandise from the scope of the order if performed in the country of manufacture of the rebar.

Specifically excluded are plain rounds (i.e., nondeformed or smooth rebar). Also excluded from the scope is deformed steel wire meeting ASTM A1064/A1064M with no bar markings (e.g., mill mark, size, or grade) and without being subject to an elongation test.

At the time of the filing of the petition, there was an existing countervailing duty order on steel reinforcing bar from the Republic of Turkey. Steel Concrete Reinforcing Bar from the Republic of Turkey, 79 FR 65,926 (Dep't Commerce Nov. 6, 2014) (2014 Turkey CVD Order). The scope of this countervailing duty order with regard to rebar from Turkey covers only rebar produced and/or exported by those companies that are excluded from the 2014 Turkey CVD Order. At the time of the issuance of the 2014 Turkey CVD Order, Habas Sinai ve Tibbi Gazlar Istihsal Endustrisi A.S. was the only excluded Turkish rebar producer or exporter.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

[FR Doc. 2017-14803 Filed 7-13-17; 8:45 am]

BILLING CODE 3510-DS-P